DEPARTMENT OF THE INTERIOR

Fish and Wildlife Service

Availability of an Environmental Action Statement and Receipt of an Application for a Permit to Enhance the Survival of Hawaiian Goose or Nene Through a Safe Harbor Agreement for Reintroduction of the Species to Puu O Hoku Ranch, Molokai

AGENCY: Fish and Wildlife Service, Interior.

ACTION: Notice of availability.

SUMMARY: Puu O Hoku Ranch, Limited has applied to the Fish and Wildlife Service (Service) for an enhancement of a survival permit pursuant to section 10(a)(1)(A) of the Endangered Species Act of 1973, as amended. The permit application includes a Safe Harbor Agreement (Agreement) between the Ranch, the Service, and the Hawaii Department of Land and Natural Resources. The proposed Agreement and permit application are available for public comment.

The proposed Agreement allows for reintroduction and management of the endangered Hawaiian goose or nene (Branta sandvicensis) onto private land owned and managed by the Ranch on the island of Molokai. Nene historically occurred on Molokai, but do not currently exist in the wild on the island. The proposed duration of the proposed Agreement is 7 years.

The proposed permit would allow the Ranch to return to existing baseline conditions of zero nene; however, we anticipate that any nene taken would not be injured or harmed, but would be relocated to other suitable lands. We expect this proposed Agreement to result in a net conservation benefit by establishing a self-sustaining population of nene on Molokai.

The Service has made a preliminary determination that the proposed Agreement and permit application are eligible for categorical exclusion under the National Environmental Policy Act of 1969. We explain the basis for this determination in an Environmental Action Statement, which also is available for public review.

We request comments from the public on the permit application, proposed Agreement, and an Environmental Action Statement. All comments we receive, including names and addresses, will become part of the administrative record and may be released to the public.

DATES: Written comments should be received on or before May 25, 2000.

ADDRESSES: Comments should be addressed to Mr. Paul Henson, Field Supervisor, U.S. Fish and Wildlife Service, P.O. Box 50088, Honolulu, Hawaii 96850, facsimile (808) 541-3470.

FOR FURTHER INFORMATION CONTACT: Mr. Paul Henson at the above address or telephone 808-541-3470.

SUPPLEMENTARY INFORMATION:

Document Availability

You may obtain copies of the documents for review by contacting the office named above. You also may make an appointment to view the documents at the above address during normal business hours.

Background

Under a Safe Harbor Agreement, participating property owners voluntarily undertake management activities on their property to enhance, restore, or maintain habitat benefitting species listed under the Endangered Species Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22(c).

We have worked with Puu O Hoku Ranch and the Hawaii Department of Land and Natural Resources to develop the proposed Agreement for the reintroduction and management of the endangered Hawaiian goose or nene onto Cape Halawa at Puu O Hoku Ranch, Molokai. Prime habitat conditions for nene currently exist on more than 700 acres of Puu O Hoku Ranch. Under the proposed Agreement, the Ranch will: (1) Maintain or improve significant amounts of nene habitat by continuing cattle ranching operations that are compatible with maintenance of open, short grass habitat; (2) assist the Hawaii Department of Land and Natural Resources to establish and maintain release sites; (3) assist the Department to control predators at breeding and release sites; and (4) prohibit hunting in nene breeding areas.

We anticipate that this proposed Agreement will result in the following benefits: (1) Establishment of a new population of nene in a remote area of Molokai, within their historic range, where they do not currently exist; (2) reduced risk of catastrophic loss of nene due to their increased range in the wild; (3) increased genetic diversity of nene; (4) increased number of nene in the wild (anticipated 75 individuals on the ranch and 200 individuals island-wide); (5) greater understanding of the effectiveness of management techniques for nene; (6) and additional sources of nene for future management activities.

Consistent with Safe Harbor policy, we propose to issue a permit to Puu O Hoku Ranch authorizing incidental take of all nene introduced to the enrolled lands, and their progeny, as a result of lawful activities at the Ranch. These activities include unintentional incidental take of nene from: (1) Cattle ranching; (2) eco-tourism; (3) recreational hunting of game birds on the ranch outside of Cape Halawa; and (4) cultivation of agricultural crops. We expect that the maximum level of incidental take authorized under the proposed Agreement will never be realized. The Ranch has no plans to change land uses. Further, we anticipate that any nene taken when the proposed Agreement expires will not be injured or harmed, but will be relocated, with permission from landowners, to other suitable lands. We fully expect that the release of nene on Puu O Hoku Ranch will result in the establishment of a self-sustaining, permanent population of nene on Molokai. Therefore, the cumulative impact of the proposed Agreement and the activities it covers, which are facilitated by the allowable incidental take, will provide a net conservation benefit to the nene.

We provide this notice pursuant to section 10(c) of the Endangered Species Act and pursuant to implementing regulations for the National Environmental Policy Act (40 CFR 1506.6). We will evaluate the permit application, associated documents, and comments submitted thereon to determine whether the permit application meets the requirements of section 10(a) of the Endangered Species Act and National Environmental Policy Act regulations. If we determine that the requirements are met, we will sign the proposed Agreement and issue an enhancement of survival permit under section 10(a)(1)(A) of the Endangered Species Act to Puu O Hoku Ranch for take of nene incidental to otherwise lawful activities in accordance with the terms of the Agreement. We will not make our final decision until after the end of the 30-day comment period and will fully consider all comments received during the comment period.

Dated: April 19, 2000.
Richard A. Coleman,
Deputy Regional Director, Fish and Wildlife Service, Portland, Oregon.

[FR Doc. 00-10239 Filed 4-24-00; 8:45 am]

BILLING CODE 4310-55-P